DEPARTMENT OF AGRICULTURE

Submission for OMB Review; Comment Request

June 3, 2014.

The Department of Agriculture will submit the following information collection requirement(s) to OMB for review and clearance under the Paperwork Reduction Act of 1995, Public Law 104-13 on or after the date of publication of this notice. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW., Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by July 9, 2014. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Dairy Request for Applicant Number.

OMB Control Number: 0581-0272.

Summary of Collection: The dairy grading program is a voluntary user fee program providing grading and inspection service to the dairy industry. The program is authorized under the Agricultural Marketing Act of 1946 (7 U.S.C. 1621-1627).

Need and Use of the Information: The Agricultural Marketing Service will collect the necessary information on form DA-228—Request for Applicant Number. The information requested will be used by the Administrative Officer to identify the applicant in the billing system, to set up an account in the billing system and contact the party responsible for payment of the fee and expense for the inspection, certification, and grading or equipment evaluation service.

Description of Respondents: Business or other for profit.

Number of Respondents: 100.

Frequency of Responses: Reporting: On occasion.

Total Burden Hours: 5.

Charlene Parker,
Departmental Information Collection Clearance Officer.

[FR Doc. 2014-13287 Filed 6-6-14; 8:45 am]

BILLING CODE 3410-02-P